DEPARTMENT OF ENERGY

Federal Energy Regulatory Commission

[Project No. 11883-001, et al.]

Notice of Surrender of Preliminary Permits

October 8, 2003.

Symbiotics, LLC, Project Nos. 11883-001, 11889-001, 11890-001, 11892-001, 11940-001, 11963-001, 11969-001, 11970-001, 11985-001, 11988-001, 11989-001, 11990-001, 11993-001, 11995-001, 12002-001, 12003-001, 12004-001, 12006-001, 12007-001, 12009-001, 12010-001, 12011-001, 12012-001, 12014-001, 12039-001, 12065-001, 12098-001; Sequoia Hydro, LLC, Project No. 12181-001; Calero Hydro, LLC, Project No. 12186-001; Skiatook Hydro, LLC, Project No. 12189-001; Crow Creek Hydro, LLC, Project No. 12197-001; Merritt Hydro, LLC, Project No. 12201-001; North San Gabriel Hydro, LLC, Project No. 12203-001; Three Mile Falls Hydro, LLC, Project No. 12209-002; Bayou D'Arbonne Hydro, LLC, Project No. 12217-001; Caddo Hydro, LLC, Project No. 12219-001; Lake Fork Hydro, LLC, Project No. 12231-001; Moose Creek Hydro, LLC, Project No. 12235-001; Pat Mayse Hydro, LLC, Project No. 12240-001; Waco Hydro, LLC, Project No. 12249-001; Ute Hydro, LLC, Project No. 12251-001; and MSR # 27 Hydro, LLC, Project No. 12267-001.

Take notice that the permittees for the subject projects have requested to surrender their preliminary permits. Investigations and feasibility studies have shown that the projects would not be economically feasible.

Project No. | Project name | Stream | State | Expiration date
11883-001 | Mackay Dam | Big Lost River | ID | 05-31-2004
11889-001 | Porcupine Dam | Bear River | UT | 07-31-2004
11890-001 | Oneida Narrows | Bear River | ID | 03-31-2005
11892-001 | Smith's Fork | Bear River | WY | 05-31-2004
11940-001 | Willow Ck. Reservoir | Willow Creek | MT | 06-30-2004
11963-001 | San Pablo Dam | San Pablo Creek | CA | 08-31-2004
11969-001 | Broines Dam | Bear Creek | CA | 08-31-2004
11970-001 | Prado Dam | Santa Ana River | CA | 08-31-2004
11985-001 | Altus Dam | Red River | OK | 08-31-2004
11988-001 | Savage Dam | Otay River | CA | 08-31-2004
11989-001 | Painted Rock Dam | Gila River | AZ | 07-31-2004
11990-001 | South Fork Dam | Humboldt River | NV | 06-30-2004
11993-001 | Topaz Dam | Walker River | NV | 08-31-2004
11995-001 | Bishop Creek Dam | Bishop Creek | NV | 06-30-2004
12002-001 | Hensley Dam | Fresno River | CA | 08-31-2004
12003-001 | El Capitan | San Diego River | CA | 08-31-2004
12004-001 | San Vincente | Upper Salinas River | CA | 08-31-2004
12006-001 | San Antonio Dam | San Antonio Creek | CA | 07-31-2004
12007-001 | Alamo Dam | Bill Williams River | AZ | 08-31-2004
12009-001 | Mathews Dam | Santa Ana River | CA | 08-31-2004
12010-001 | Crocker Diversion | Merced River | CA | 07-31-2004
12011-001 | Martis Creek Lake | Martis Creek | CA | 07-31-2004
12012-001 | Calaveras Dam | Calaveras Creek | CA | 07-31-2004
12014-001 | Dake Dam | Thousand Springs Ck. | NV | 08-31-2004
12039-001 | Alpine | Snake River | WY | 08-31-2004
12065-001 | Big Timber | Big Timber Creek | MT | 12-31-2004
12098-001 | Scofield Reservoir Falls | Price River | UT | 01-31-2005
12181-001 | Sequoia Dam | Mill Flat Creek | CA | 10-31-2005
12186-001 | Calero Dam | Calero Creek | CA | 12-31-2005
12189-001 | Skiatook Dam | Hominy Creek | OK | 10-31-2005
12197-001 | Crow Creek Dam | Crow Creek | OR | 09-30-2005
12201-001 | Merritt Dam | Snake River | NE | 11-30-2005
12203-001 | North San Gabriel | San Gabriel River | TX | 10-31-2005
12209-002 | Three Mile Falls Dam | Umatilla River | OR | 10-31-2005
12217-001 | Bayou D’Arbonne Dam | Bayou D'Arbonne Res | LA | 10-31-2005
12219-001 | Caddo Dam | Cypress Bayou | LA | 12-31-2005
12231-001 | Lake Fork Dam | Lake Fork Creek | TX | 03-31-2006
12235-001 | Moose Creek | Chena River | AK | 01-31-2006
12240-001 | Pat Mayse Dam | Sanders Creek | TX | 10-31-2005
12249-001 | Waco Dam | Bosque River | TX | 10-31-2005
12251-001 | Ute Dam | Canadian River | NM | 01-31-2006
12267-001 | Mississippi L&D #27 | Mississippi River | IL | 01-31-2006

The permits shall remain in effect through the thirtieth day after issuance of this notice unless that day is Saturday, Sunday, or holiday as described in 18 CFR 385.2007, in which case each permit shall remain in effect through the first business day following that day. New applications involving these project sites, to the extent provided for under 18 CFR part 4, may be filed on the next business day.

Magalie R. Salas,
Secretary.

[FR Doc. E3-00046 Filed 10-15-03; 8:45 am]

BILLING CODE 6717-01-P